DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Housing Vacancy Survey (HVS).

OMB Control Number: 0607-0179.

Form Number(s): HVS-600, BC-1428RV, CPS-263(L).

Type of Request: Extension of a currently approved collection.

Burden Hours: 4,626.

Number of Respondents: 7,500.

Average Hours per Response: 3 minutes.

Needs and Uses: The purpose of this request for review is to obtain clearance for the collection of demographic information in the Housing Vacancy Survey (HVS) beginning in August 2011. The current clearance expires July 31, 2011. The HVS has been conducted since 1956 and serves a broad array of data users as described below.

The U.S. Census Bureau collects the HVS data for a sample of vacant housing units identified in the monthly Current Population Survey (CPS) sample and provide the only quarterly statistics on rental vacancy rates, and home ownership rates for the United States, the four census regions, inside vs. outside metropolitan areas (MSAs), the 50 States, the District of Columbia, and the 75 largest MSAs. Private and public sector organizations use these rates extensively to gauge and analyze the housing market.

In addition, the rental vacancy rate is a component of the index of leading economic indicators published by the Department of Commerce. It is used by the Department of Housing and Urban Development (HUD), Bureau of Economic Analysis (BEA), National Association of Home Builders, Federal Reserve Board (FRB), Office of Management and Budget (OMB), Department of Treasury, and the White House Council of Economic Advisers (CEA).

Policy analysts, program managers, budget analysts, and Congressional staff use data obtained from the remaining questions that do not deal specifically with the vacancy rate to advise the executive and legislative branches of government with respect to number and characteristics of units available for occupancy and the suitability of housing initiatives.

Affected Public: Individuals or households.

Frequency: Monthly.

Respondent's Obligation: Voluntary.

Legal Authority: Title 13, United States Code, Section 182, and Title 29, U.S.C. Section 1.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin,

OMB Desk Officer either by fax (202-395-7245) or e-mail (bharrisk@omb.eop.gov).

Dated: March 24, 2011.
Glenna Mickelson,
Management Analyst, Office of the Chief Information Officer.

[FR Doc. 2011-7388 Filed 3-29-11; 8:45 am]

BILLING CODE 3510-07-P